DEPARTMENT OF HEALTH AND HUMAN SERVICES

Centers for Disease Control and Prevention

Announcement of Requirements and Registration for Surgeon General's (SG) Youth Video Contest

AGENCY: Centers for Disease Control and Prevention (CDC), Department of Health and Human Services (HHS).

Award Approving Official: Thomas R. Frieden, MD, MPH, Director, Centers for Disease Control and Prevention, and Administrator, Agency for Toxic Substances and Disease Registry.

ACTION: Notice.

SUMMARY: The Center for Disease Control and Prevention (CDC) located within the Department of Health and Human Services (HHS) announces the launch of the Surgeon General's (SG) Youth Video Contest. This contest is sponsored by CDC in conjunction with the Office of the Surgeon General, HHS. This contest has been designed to engage youth and young adults in developing original videos in conjunction with the launch of the 2012 Surgeon General's Report, “Preventing Tobacco Use among Youth and Young Adults.” Specifically, the contest will engage youth and young people in considering how tobacco use impacts their health, how the tobacco industry reaches youth through marketing, and other tobacco-related influences.

DATES: The contest will be launched on March 8, 2012 during a news conference. Other important contest-related dates:

• Video Submission Begins: 12 p.m., EDT, March 8, 2012

• Submission Period Ends: 11:59 p.m., EDT, April 20, 2012

• Judging Process for Initial Entries Begins (internal): 12:01 a.m., EDT, April 21, 2012

• Judging Process for Initial Entries Ends (internal): 12 p.m., EDT, May 7, 2012

• Judging Process/Voting for Finalists Begins (external): 12 p.m., EDT, May 8, 2012

• Judging Process/Voting for Finalists Ends: 11:59 p.m., EDT, May 24, 2012

• Winners Notified: Week of May 28, 2012

FOR FURTHER INFORMATION CONTACT: H. Amy Rowland, BA, MSc., National Center for Chronic Disease Prevention and Health Promotion, Centers for Disease Control and Prevention, 4770 Buford Highway, MS-K50, Atlanta, Georgia 30341-3724; phone: (770) 488-5709; email: SGReport@cdc.gov.

SUPPLEMENTARY INFORMATION:

Subject of SG Video Competition: Entrants are asked to submit short videos (up to 2 minutes in length) using one or more key SG Report findings and use or include the official SGR findings Web site.

Eligibility Rules for Participating in the Competition:

To be eligible to win a prize under this contest, an individual or entity shall have complied with all the requirements under this section.

An individual or entity shall not be deemed ineligible because the individual or entity used Federal facilities or consulted with Federal employees during a competition if the facilities and employees are made available to all individuals and entities participating in the competition on an equitable basis.

The Contest Has Two (2), Age-Based Categories and Two (2) Language Categories, English and Spanish

• The first age-based category is open to U.S. middle and high school students aged 14-18 at the time of entry. If the Contestant/Submitter is under eighteen (18) years of age at the time of entry, the Contestant/Submitter must have permission from a parent or guardian. Contestants/Submitters must also have all the necessary permissions for individuals heard and/or seen on the submitted video. The permission of the parent or guardian of each person under the age of 18 who is seen or heard in the video is also required. All individual submissions in the 18 and under category must be U.S. citizens or permanent residents to be eligible.

• The second, aged-based category is for young adults aged 18-24; these individuals must be citizens or permanent residents of the United States.

• Both age-based categories will be allowed to submit individual and group or team entries to ensure access to resources and technology that may be available to them at the institutional (i.e., schools) level, in addition to any at home.

English and Spanish language submissions in both age-based categories will be judged by separate panels and will be considered eligible for contest awards if they meet the aforementioned criteria.

A Federal entity or Federal employee acting within the scope of his or her employment is not eligible to participate. Federal employees seeking to participate in this contest outside the scope of their employment should consult their ethics official prior to developing their submission. Employees of the CDC and the judges or any other company or individual involved in the design, production, execution, or distribution of the Contest and their immediate family (spouse, parents and step-parents, siblings and step-siblings, and children and step-children) and household members (people who share the same residence at least three months out of the year) are not eligible to participate.

Regarding Liability and Indemnification:

By participating in this competition, Contestants agree to assume any and all risks and waive claims against the Federal Government and its related entities, except in the case of willful misconduct, for any injury, death, damage or loss of property, revenue or profits, whether direct, indirect, or consequential, arising from participation in this contest, whether the injury, death, damage, or loss arises through negligence or otherwise. By participating in this competition, Contestants agree to indemnify the Federal Government against third party claims for damages arising from or related to contest activities.

Regarding Insurances:

Contestants must obtain liability insurance or demonstrate financial responsibility in the amount of $0.00 for claims by: (1) A third party for death, bodily injury, or property damage, or loss resulting from an activity carried out in connection with participation in a competition, with the Federal Government named as an additional insured under the registered contestant's insurance policy and registered contestants agreeing to indemnify the Federal Government against third party claims for damages arising from or related to competition activities; and (2) the Federal Government for damage or loss to Government property resulting from such an activity. Contestants who are a group must obtain insurance or demonstrate financial responsibility for all members of the group.

Regarding Copyright/Intellectual Property:

Contestant(s) warrants that he or she is the sole author and owner of the contest Submission, and that the contest Submission completely originates with the Contestant, that it does not infringe upon any copyright or any other rights of any third party of which Contestant(s) is aware, and is free of malware, e.g., Contestant cannot submit material that he or she did not create and is not the owner of, the Contestant cannot take material from any other source.

Submission Rights:

By participating in this contest, each Contestant grants the CDC an irrevocable, paid-up, royalty-free nonexclusive worldwide license to post, link to, share, and display public the video on the Web, for the purpose of the Contest, during the duration of the Contest, and for a period of one year following announcement of the winners. Submissions will be made available free of charge to the public by CDC including, but not limited to, on CDC/OSH's YouTube playlist throughout the contest. CDC also reserves the right to make all submitted videos available for partners and local access stations to feature winners or local contestants. Contestants will retain intellectual property rights of their Submissions.

Registration Process for Participants:

Interested persons should read the Official Rules posted on Challenge.gov. Contestants will submit their content through the Challenge.gov Web site. All submissions will be reviewed by CDC to confirm eligibility based on the contest rules prior to being transferred to CDC's YouTube channel for public voting. Registration is free and can be completed anytime during the Initial Submission Period, March 8 to April 20, 2012.

Amount of the Prize:

There will be a $1,000 grand prize and three $500.00 runner-up prizes, for a total of $10,000 divided evenly between the middle/high school contest (English and Spanish categories) and the college contest (English and Spanish categories), a total of four prizes for each age-based group.

Payment of the Prize:

Payment of prize money will be paid directly to winners by ICF Macro, Inc., an ICF International company under contract to and on behalf of HHS. Payment will be made by check and may be subject to Federal income taxes. ICF Macro will comply with the Internal Revenue Service withholding and reporting requirements, where applicable.

Basis Upon Which Winner Will Be Selected:

In conjunction with the launch of the new SG Report, the Surgeon General will be releasing a Consumer Piece in English and in Spanish that will summarize the key messages and recommendations from the full report. English and Spanish language contestants in both age categories will be encouraged to use the Consumer Piece as a guide for writing key health messages into their videos. Submissions will be judged on the best use and depiction of key messages and recommendations from the English and Spanish language Consumer Pieces. Only submissions in English and Spanish in both age-categories will be eligible for the judging.

Additional Information:

The Video must be 120 seconds or less in length and must be submitted through www.challenge.gov. The Video must not have visual or verbal mention of any Web sites other than CDC's Smoking & Tobacco Use Web site (www.cdc.gov/tobacco) or SG Web site (www.surgeongeneral.gov).

Videos should not include endorsements of private products, services, or enterprises. Videos containing profane language, violence or weapons, sexually explicit content, or personal attacks will not be considered. Videos containing material that is obscene, offensive, or slanderous will not be considered. Videos containing material that promotes bigotry, racism, or harm against any group or individual or promotes discrimination based on race, sex, religion, nationality, disability, sexual orientation, or age will not be considered.

Compliance With Rules and Contacting Contest Winners:

Finalists and the Contest Winners must comply with all terms and conditions of these Official Rules, and winning is contingent upon fulfilling all requirements herein. The initial finalists will be notified by email, telephone, or mail after the date of the judging. Awards may be subject to Federal income taxes, and the Department of Health and Human Services will comply with the Internal Revenue Service withholding and reporting requirements, where applicable.

Privacy:

If Contestants choose to provide the CDC with personal information by registering or filling out the submission form through the Challenge.gov Web site, that information is used to respond to Contestants in matters regarding their submission, announcements of entrants, finalists, and winners of the Contest. Information is not collected for commercial marketing. Winners are permitted to cite that they won this contest.

General Conditions:

The CDC reserves the right to cancel, suspend, and/or modify the Contest, or any part of it, for any reason, at CDC's sole discretion.

Participation in This Contest Constitutes a Contestant's Full and Unconditional Agreement To Abide by the Contest's Official Rules Found at www.Challenge.gov.

Authority: 15 U.S.C. 3719.

Dated: February 23, 2012.
Tanja Popovic,
Deputy Associate Director for Science, Centers for Disease Control and Prevention.

[FR Doc. 2012-5080 Filed 3-1-12; 8:45 am]

BILLING CODE 4163-18-P